COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List a product and services to be furnished by nonprofit agencies employing persons who are blind or have other severe disabilities, and to delete products and services previously furnished by such agencies.

COMMENTS MUST BE RECEIVED ON OR BEFORE: March 18, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed additions, the entities of the Federal Government identified in this notice will be required to procure the product and services listed below from nonprofit agencies employing persons who are blind or have other severe disabilities.

I certify that the following action will not have a significant impact on a substantial number of small entities. The major factors considered for this certification were:

1. The action will not result in any additional reporting, recordkeeping or other compliance requirements for small entities other than the small organizations that will furnish the product and services to the Government.

2. The action will result in authorizing small entities to furnish the product and services to the government.

3. There are no known regulatory alternatives which would accomplish the objectives of the Javits-Wagner-O'Day Act (41 U.S.C. 46-48c) in connection with the product and services proposed for addition to the Procurement List. Comments on this certification are invited.

Commenters should identify the statement(s) underlying the certification on which they are providing additional information.

The following product and services are proposed for addition to Procurement List for production by the nonprofit agencies listed:

Products

Product/NSN: Waterbag, Suppression, 55 Gallon/8465-01-369-2148.

NPA: Work Services Corporation, Wichita Falls, Texas.

Contract Activity: GSA, General Products Commodity Center, Fort Worth, Texas.

Services

Service Type/Location: Central Facility Management/Interstate Commerce Commission Building/U.S. Customs Building/Connecting Wing, Washington, DC.

NPA: The Chimes, Inc., Baltimore, Maryland.

Contract Activity: GSA, Public Buildings Service.

Service Type/Location: Distribution of Licensed Products for the Gang Related Education and Training (G.R.E.A.T) Program/Department of the Treasury, Bureau of ATF, Washington, DC (25% of the Total Requirement).

NPA: Industries for the Blind, Inc., Milwaukee, Wisconsin.

Contract Activity: Department of the Treasury/Bureau of ATF (Acquisition and Property Management Division).

Service Type/Location: Grounds Maintenance/Naval Undersea Warfare Center Division, Keyport, Washington.

NPA: Skookum Educational Programs, Port Townsend, Washington.

Contract Activity: Naval Undersea Warfare Center Division, Keyport, Washington.

Service Type/Location: Janitorial/Custodial/Peace Bridge Complex, Buffalo, New York.

NPA: Suburban Adult Services, Inc., Sardinia, New York.

Contract Activity: GSA, Public Buildings Service.

Service Type/Location: Janitorial/Custodial/Veterans Affairs Outpatient Clinic, Greenville, South Carolina.

NPA: Greenville Rehabilitation Center, Greenville, South Carolina.

Contract Activity: Department of Veterans Affairs.

Service Type/Location: Maintenance and Repair of Portable Light Towers/Basewide, Fort Hood, Texas.

NPA: Professional Contract Services, Inc., Austin, Texas.

Contract Activity: Army III Corps and Ft Hood Contracting CMD, Ft. Hood, Texas.

Deletions

I certify that the following action will not have a significant impact on a substantial number of small entities. The major factors considered for this certification were:

1. The action will not result in any additional reporting, recordkeeping or other compliance requirements for small entities.

2. The action will result in authorizing small entities to furnish the products and services to the Government.

3. There are no known regulatory alternatives which would accomplish the objectives of the Javits-Wagner-ODay Act (41 U.S.C.46-48c) in connection with the products and services proposed for deletion from the Procurement List.

The following products and services are proposed for deletion from the Procurement List:

Products

Product/NSN: Paper, Looseleaf, Ruled/7530-00-286-4332.

NPA: Alabama Industries for the Blind, Talladega, Alabama.

Contract Activity: Office Supplies & Paper Products Commodity Center, New York.

Product/NSN: Paper, Tabulating Machine/7530-00-138-9919.

NPA: Lighthouse for the Blind, St. Louis, Missouri.

Contract Activity: Social Security Administration, Baltimore, Maryland.

Services

Service Type/Location: Grounds Maintenance/Brooks Air Force Base (Koritz Memorial Garden), Brooks AFB, Texas.

NPA: Goodwill Industries of San Antonio, San Antonio, Texas.

Contract Activity: Department of the Air Force.

Service Type/Location: Janitorial/Custodial/Brooks Air Force Base (Base Wide) Brooks AFB, Texas.

NPA: Goodwill Industries of San Antonio, San Antonio, Texas.

Contract Activity: Department of the Air Force.

Service Type/Location: Janitorial/Custodial/Federal Complex, Kansas City, Missouri.

NPA: Independence & Blue Springs Industries, Inc., Independence, Missouri.

Contract Activity: General Services Administration.

Sheryl D. Kennerly,
Director, Information Management.

[FR Doc. 02-3783 Filed 2-14-02; 8:45 am]

BILLING CODE 6353-01-P